NUCLEAR REGULATORY COMMISSION

[NRC-2009-0454]

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on November 5, 2009.

1. Type of submission, new, revision, or extension: Extension.

2. The title of the information collection: NRC Form 664, General Licensee Registration;

3. Current OMB approval number: 3150-0198.

4. The form number if applicable: NRC Form 664.

5. How often the collection is required: Annually.

6. Who will be required or asked to report: General Licensees of the NRC who possess certain generally licensed devices subject to annual registration authorized pursuant to 10 CFR 31.5.

7. An estimate of the number of annual responses: 840.

8. The estimated number of annual respondents: 840.

9. An estimate of the total number of hours needed annually to complete the requirement or request: The number of hours needed annually to complete the requirement or request: 280 hours annually (840 respondents × 20 minutes per form).

10. Abstract: NRC Form 664 is used by NRC general licensees to make reports regarding certain generally licensed devices subject to annual registration. The registration program allows NRC to better track general licensees, so that they can be contacted or inspected as necessary, and to make sure that generally licensed devices can be identified even if lost or damaged. Also, the registration program ensures that general licensees are aware of and understand the requirements for the possession, use and disposal of devices containing byproduct material. Greater awareness helps to ensure that general licensees will comply with the regulatory requirements for proper handling and disposal of generally licensed devices and would reduce the potential for incidents that could result in unnecessary radiation exposure to the public and contamination of property.

A copy of the final supporting statement may be viewed free of charge at the NRC Public Document Room, One White Flint North, 11555 Rockville Pike, Room O-1 F21, Rockville, Maryland 20852. OMB clearance requests are available at the NRC worldwide Web site: http://www.nrc.gov/public-involve/doc-comment/omb/index.html. The document will be available on the NRC home page site for 60 days after the signature date of this notice.

Comments and questions should be directed to the OMB reviewer listed below by March 12, 2010. Comments received after this date will be considered if it is practical to do so, but assurance of consideration cannot be given to comments received after this date.

Christine J. Kymn, Desk Officer, Office of Information and Regulatory Affairs (3150-0198), NEOB-10202, Office of Management and Budget, Washington, DC 20503.

Comments can also be e-mailed to Christine.J.Kymn@omb.eop.gov or submitted by telephone at (202) 395-4638.

The NRC Clearance Officer is Tremaine Donnell, (301) 415-6258.

Dated at Rockville, Maryland, this 1st day of February, 2010.
For the Nuclear Regulatory Commission.
Tremaine Donnell,
NRC Clearance Officer, Office of Information Services.

[FR Doc. 2010-2962 Filed 2-9-10; 8:45 am]

BILLING CODE 7590-01-P